DEPARTMENT OF DEFENSE

Office of the Secretary

[Docket ID: DoD-2013-HA-0107]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 15, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of Defense for Health Affairs (OASD), TRICARE—Defense Health Cost Assessment and Program Evaluation, ATTN: Dr. Kimberley Marshall, 7700 Arlington Blvd., Suite 5101, Falls Church, VA 22042-5101, or call (703) 681-3636.

Title; Associated Form; and OMB Number: Patient Centered Medical Home (PCMH) Staff Satisfaction Survey; 0720-TBD.

Needs and Uses: The information collection requirement is necessary to measure satisfaction among staff at direct care military treatment facilities (MTFs) that have been identified as current or potential future PCMHs. The survey will ask staff members what new PCMH processes are or are not working well at the clinic. It will also ask about teamwork among staff at the clinic, the overall clinic environment, and what available resources are assisting them in their provision of quality patient centered care. Eligible staff include: physicians, nurse practitioners, physician assistants, registered nurses, licensed practical nurses, corpsmen, and administrative staff. Over the next 5-7 years, the DoD will make a significant investment in this primary care transformation. By fielding a survey focused on primary care staff satisfaction, the MHS will be able to monitor our investment in PCMH and study how it affects our people.

Affected Public: Individuals and households; MTF contractor providers and support staff.

Annual Burden Hours: 1,035 hours.

Number of Respondents: 3,105.

Responses per Respondent: 1.

Average Burden per Response: 10 minutes.

Frequency: Bi-annual.

SUPPLEMENTARY INFORMATION:

Summary of Information Collection

The goals of this survey effort are to assess staff satisfaction, attitudes and perceptions regarding the implementation of the patient centered medical home. Respondents will be all military, federal (GS/NSPS) and contracted medical professionals and support staff who work in PCMH clinics. The survey will be administered via a MHS/DoD platform that will capture response data. The survey will be administered via an online tool on a bi-annual basis to medical professionals and support staff. The population sample will receive a pre-notification, and reminder notifications to encourage participation.

Dated: May 10, 2013.
Aaron Siegel,
Alternate OSD Federal Register Liaison Officer, Department of Defense.

[FR Doc. 2013-11570 Filed 5-14-13; 8:45 am]

BILLING CODE 5001-06-P